ENVIRONMENTAL PROTECTION AGENCY

40 CFR Part 52

[EPA-R06-OAR-2014-0821; FRL-9945-10-Region 6]

Approval and Promulgation of Implementation Plans; Louisiana; Revisions to the New Source Review State Implementation Plan; Air Permit Procedure Revisions

AGENCY: Environmental Protection Agency (EPA).

ACTION: Proposed rule.

SUMMARY: The Environmental Protection Agency (EPA) is proposing approval of portions of ten revisions to the Louisiana New Source Review (NSR) State Implementation Plan (SIP) submitted by the Louisiana Department of Environmental Quality (LDEQ). These revisions to the Louisiana SIP provide updates to the minor NSR and nonattainment new source review (NNSR) permit programs in Louisiana contained within the Chapter 5 Permit Procedures and Chapter 6 Regulations on Control of Emissions through the Use of Emission Reduction Credits (ERC) Banking rules as initially submitted on November 15, 1993, and the subsequent rule amendments for Air Permit Procedure revisions submitted through November 3, 2014. The EPA's final action will incorporate these rules into the federally approved SIP. The rules generally enhance the SIP and were evaluated in accordance with CAA guidelines for the EPA action on SIP submittals and general rulemaking authority. This proposed action is consistent with the requirements of section 110 of the CAA.

DATES: Written comments must be received on or before May 20, 2016.

ADDRESSES: Submit your comments, identified by Docket ID No. EPA-R06-OAR-2014-0821, at http://www.regulations.gov or via email to kordzi.stephanie@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Stephanie Kordzi, 214-665-7520, kordzi.stephanie@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Stephanie Kordzi, telephone (214) 665-7520, kordzi.stephanie@epa.gov. To inspect the hard copy materials, please schedule an appointment with Stephanie Kordzi at 214-665-7520 or Mr. Bill Deese at 214-665-7253.

SUPPLEMENTARY INFORMATION: Throughout this document whenever “we,” “us,” or “our” is used, we mean the EPA.

Table of Contents

I. Summary of State SIP Submittals for Chapter 5 and Chapter 6 Air Permit Program

A. November 15, 1993, Submittal

B. November 10, 1994, Submittal

C. July 25, 1997, Submittal

D. June 22, 1998, Submittal

E. June 27, 2003, Submittal

F. May 5, 2006, Submittal

G. November 9, 2007, Submittal

H. August 14, 2009, Submittal

I. August 29, 2013, Submittal

J. November 3, 2014, Submittal

II. Evaluation

A. Revisions to the NSR Air Permit Procedures

B. Does the proposed approval of the Louisiana minor and nonattainment NSR Air Permit procedure revisions interfere with attainment, reasonable further progress, or any other applicable requirement of the Act?

III. Proposed Action

IV. Incorporation by Reference

V. Statutory and Executive Order Reviews

I. Summary of State SIP Submittals for Chapter 5 and Chapter 6 Air Permit Program

The EPA is proposing approval of the SIP revisions submitted by the State of Louisiana. The proposed revisions modify Louisiana's minor NSR and NNSR Chapters 5 Permit Procedure and Chapter 6 Regulations on Control of Emissions through the Use of Emission Reduction Credits (ERC) Banking rules enacted at Louisiana Administrative Code (LAC) 33:III.501, 502, 503, 504, 511, 513.A.2., 513.A.3, 513.A.4., 513.A.5., 513.A.6., 513.B., 513.C., 515, 517, 519.A., 519.B., 521, 523, 525, 527, 529, 601, 603, 605, 607, 615, and 619. The revisions provide clarity to the rules, correct contradictory language, update permit application and fee requirements, revise the rules to conform to the latest Louisiana laws, and add to the “Insignificant Activities List”.

A. November 15, 1993, Submittal

On November 15, 1993, the LDEQ submitted revisions to the SIP. This SIP submittal incorporated revisions to the Louisiana Administrative Code (LAC) during the year 1993. It includes final revised regulation enacted at LAC 33:III, sections 501, 502, 503, 504, 505, 507, 511, 513, 515, 517, 519, 521, 523, 525, 527, 529, and 533. The EPA is proposing to take action on sections 501, 502, 503, 511, 513, 515, 517, 519, 523, 525, 527, and 529. The EPA already approved section 504 (NNSR Procedures) into the SIP on October 10, 1997, 62 FR 52948. The 504 rules were then subsumed into later SIP approval revisions. The EPA returned sections 505, 507, and 533 due to their association with the Title V operating permit program requirements to the LDEQ on August 4, 2015. The EPA is not taking action and severing section 513.A.1 (which references section 531), section 519.C. (which references section 531), and section 531 regarding public notice. Those specific sections will be addressed in a separate action. The EPA is not taking action and is severing section 501.B.1.d. at this time.

B. November 10, 1994, Submittal

On November 10, 1994, the LDEQ submitted revisions to the SIP. This SIP submittal incorporated revisions to the LAC published in the Louisiana Register on November 20, 1994. It includes final revised regulations enacted at LAC 33:III, sections 501, 507, 517, 521, 527, and 533. The EPA is proposing to take action on sections 501, 517, 521, and 527. The EPA returned sections 507 and 533 due to their association with the title V operating permit program requirements to LDEQ on August 4, 2015.

C. July 25, 1997, Submittal

On July 25, 1997, the LDEQ submitted the 1996 General revisions to the SIP. This SIP submittal incorporated revisions to LAC 33:III, sections 501, 504, 509, and 517 adopted during 1996. The EPA is proposing action on section 517. The EPA already approved sections 501, 504 and 509 on November 5, 2015 (80 FR 68451). Section 504 was approved in 1997 as noted above and revisions have been subsumed into the SIP since the EPA's last action approving changes to the 504 rules on September 30, 2002 (67 FR 61260).

D. June 22, 1998, Submittal

On June 22, 1998, the LDEQ submitted the 1997 General revisions to the SIP. This SIP submittal incorporated revisions to the LAC during the year 1997 and revisions to the LAC not previously federally approved. It includes final revised regulation at LAC 33:III, sections 501, 509, and 517. The EPA is proposing action on sections 501 and 517. The EPA already approved section 509 on November 5, 2015 (80 FR 68451).

E. June 27, 2003, Submittal

On June 27, 2003, the LDEQ submitted the 2002 General revisions to the SIP. This SIP submittal incorporated revisions to the LAC during the year 2002. It includes final revised regulation LAC 33:III, section 501 covering the insignificant activities list. The EPA is proposing action on section 501.

F. May 5, 2006, Submittal

On May 5, 2006, the LDEQ submitted the 2005 General revisions to the SIP. This SIP submittal incorporated revisions to the LAC during the year 2005 and revisions to the LAC not previously federally approved. It includes final revised regulation sections LAC 33:III.501, 504, 505, 507, 509, 517, and 521. The EPA is proposing action on sections 501, 517, and 521. Since the last approval of section 504 in 2002, the EPA approved changes to section 504 as well as section 509 on November 5, 2015 (80 FR 68451). The EPA returned to LDEQ sections 505 and 507.C.3. due to their association with the title V operating permit program requirements on August 4, 2015. The EPA returned to LDEQ sections 507.H.4 and 507.H.5.d. due to their association with the title V operating permit program requirements on February 2, 2016.

G. November 9, 2007, Submittal

On November 9, 2007, the LDEQ submitted the 2006 General revisions to the SIP. This SIP submittal incorporated revisions to the LAC during the year 2006 and revisions to the LAC not previously federally approved. It includes final revised regulation sections at LAC 33:III.501, 504, 509, 513, 531, and 607. The EPA is proposing action on sections 513.A.2. and 513.A.6. The EPA already approved sections 501, 504, 509, and 607 on November 5, 2015 (80 FR 68451). The EPA is not taking action and severing section 513.A.1. (which references section 531) and section 531 regarding public notice. Those specific sections will be addressed in a separate action.

H. August 14, 2009, Submittal

On August 14, 2009, the LDEQ submitted the 2007 General revisions to the SIP. This SIP submittal incorporated revisions to the LAC during the year 2007 and includes revisions to the LAC not previously federally approved. It includes final revised regulation sections LAC 33:III.501, 504, 505, 506, and 507 contained in Chapter 5. It also includes final revised regulation sections LAC 33:III.603, 605, 607, 613, and 615 contained in Chapter 6. The EPA is proposing action on section 501. The EPA already approved sections 504, 603, 605, 607, 613, and 615 on November 5, 2015 (80 FR 68451). The EPA already approved section 506 on April 17, 2014, (79 FR 21631). The EPA returned section 505 to LDEQ on February 2, 2016, because it addresses the Acid Rain Program Permitting Requirements, which are implemented in the title V program rather than the SIP. The EPA returned section 507 to LDEQ on February 2, 2016, because it concerns the title V program which is not part of a SIP.

I. August 29, 2013, Submittal

On August 29, 2013, the LDEQ submitted the 2008-2010 Volatile Organic Compounds Rule SIP Revision. This SIP submittal incorporated revisions to the LAC during the years 2008-2010 and includes revisions to final revised regulation section LAC 33:III.523. The EPA is proposing action on section 523.

J. November 3, 2014, Submittal

On November 3, 2014, the LDEQ submitted the 2011-2013 Permit Rule revisions to the SIP. This SIP submittal incorporated revisions to the LAC during the years 2011-2012. It includes final revised regulation sections LAC 33:III.211, 223, 317, 319, 501, 502, 503, 504, 523, 537, 601, 603, 605, 607, 615, 619, and 2132. The EPA is proposing action on sections 501, 502, 503, 504, 523, 601, 603, 605, 607, 615, and 619. The LDEQ withdrew sections 211 and 223 from SIP consideration by letter on December 2, 2015. The EPA is not acting on sections 317, 319, and 2132 because this action only addresses Chapters 5 and 6. The EPA is not taking action on section 537 (AQ286) and revised citation 501.B.2.d.i.(a) (AQ270) because the original 2008-2010 rule revision containing these sections was never submitted to the EPA. The EPA is not taking action and is severing section 501.B.1.d. at this time.

Table 1 below summarizes the changes that are in the SIP revision submittals. A summary of the EPA's evaluation of each section and the basis for our proposed approval is included in this rulemaking. The accompanying Technical Support Document (TSD) includes a detailed evaluation of the submittals and our rationale. The TSD may be accessed online at www.regulations.gov, Docket No. EPA-R06-OAR-2014-0821.

Table 1—Summary of Each NSR SIP Submittal Affected by This Action
Title of SIP submittal | Date submitted to EPA | Date of state adoption | Regulations affected
Air Permit Procedure Revisions | 11/15/1993 | 1993 | Sections 501, 502, 503, 511, 513, 515, 517, 519.A., 519.B., 521, 523, 525, 527, and 529.
Air Permit Procedure Revisions | 11/10/1994 | 11/20/1994 | Sections 501, 517, 521, and 527.
Air Permit Procedure Revisions | 7/25/1997 | 1996 | Section 517.
Air Permit Procedure Revisions | 6/22/1998 | 1997 | Sections 501 and 517.
Air Permit Procedure Revisions | 6/27/2003 | 2002 | Section 501.
Air Permit Procedure and ERC Banking Revisions | 5/5/2006 | 2005 | Sections 501, 517, and 521.
Air Permit Procedure and ERC Banking Revisions | 11/9/2007 | 2006 | Section 513.
Air Permit Procedure Revisions | 8/14/2009 | 2007 | Section 501.
2008-2010 Volatile Organic Compounds Rule | 8/29/2013 | 9/20/2008 | Section 523.
2011-2013 Permit Rule SIP Revision | 11/3/2014 | 2011 | Sections 501, 502, 503, 504, 523, 601, 603, 605, 615, and 619.

II. Evaluation

A. Revisions to the NSR Air Permit Procedures

We evaluated the SIP submissions and are proposing approval of the Louisiana Permit Procedures Revisions and ERC Banking Provisions, as identified, beginning with the November 15, 1993, through the November 3, 2014, submissions. The Act at section 110(a)(2)(C) requires states to develop and submit to the EPA for approval into the SIP, preconstruction review programs applicable to new and modified stationary sources of air pollutants for attainment and nonattainment areas that cover both major and minor new sources and modifications, collectively referred to as the NSR SIP. The CAA NSR SIP program is composed of three separate programs: Prevention of Significant Deterioration (PSD), NNSR, and Minor NSR. PSD is established in part C of title I of the CAA and applies in areas that meet the National Ambient Air Quality Standards (NAAQS), i.e., “attainment areas”, as well as areas where there is insufficient information to determine if the area meets the NAAQS, i.e., “unclassifiable areas.” The NNSR SIP program is established in part D of title I of the CAA and applies in areas that are not in attainment of the NAAQS, i.e., “nonattainment areas.” The Minor NSR SIP program addresses construction or modification activities that do not emit, or have the potential to emit, beyond certain major source thresholds and thus do not qualify as “major” and applies regardless of the designation of the area in which a source is located. This particular SIP action will address the minor NSR and NNSR permitting programs.

The EPA regulations governing the criteria that states must satisfy for the EPA approval of the NSR programs as part of the SIP are contained in 40 CFR 51.160-51.166. However, the PSD rules are not being evaluated in this action and therefore 40 CFR 51.166 does not provide a basis for a decision in this proposal. In addition, there are several provisions in 40 CFR part 51 that apply generally to all SIP revisions. As stated above, 40 CFR 51.160 establishes the enforceable procedures that all NSR programs must include. 40 CFR 51.160-51.164 require that a SIP revision demonstrate that the adopted rules will not interfere with any applicable requirement concerning attainment and reasonable further progress, or any other applicable requirement of the CAA. Based upon our evaluation of the submittals, the EPA has concluded that the submittals as ultimately revised meet the requirements of the CAA section 110(a).

Our evaluation found that May 20, 2012 and November 20, 2012 adopted revisions to the NNSR program, submitted on November 3, 2014 revised the program to address all nonattainment area pollutants and was necessary to ensure the Louisiana NNSR offset bank is able to be used in future instances where the State is designated nonattainment for other criteria pollutants. Prior to this action, the EPA proposed full approval of the major PSD and NNSR permitting program update, (80 FR 50240), specifically those NNSR requirements submitted prior to November 3, 2014. That action was finalized on November 5, 2015 (80 FR 68451).

Our evaluation of the proposed minor NSR revisions found the proposed revisions address requirements that enhance the SIP. These changes (1) define insignificant activities that will not require permitting; (2) correct contradictory language in the insignificant activities list; (3) provide edits to the Permit Procedure Rule as requested by the EPA; (4) include procedures for incorporating test results; (5) unify and streamline name and ownership changes for all media; and (6) revise references to various LDEQ divisions. All of these changes will help to ensure that the LA Minor NSR rules to meet the CAA requirements.

B. Does the proposed approval of the Louisiana minor and nonattainment NSR Air Permit procedure revisions interfere with attainment, reasonable further progress, or any other applicable requirement of the Act?

We have determined that the regulations submitted to the EPA for approval as SIP revisions meet the requirements of CAA section 110(l). The EPA's conclusion is based upon a line-by-line comparison of the proposed revisions with the federal requirements. The goal is to demonstrate that the proposed revisions will not interfere with the attainment of the NAAQS, Rate of Progress, RFP or any other applicable requirement of the CAA.

The EPA prepared a CAA section 110(l) analysis in its review of the proposed list to serve as a basis for demonstrating noninterference for the affected pollutants for any applicable requirement for attainment and reasonable further progress such as: (1) Turning a maintenance area back into a nonattainment area; (2) turning an attainment/unclassifiable area into a nonattainment area; (3) leading to a PSD increment exceedance; (4) causing the nonattainment area to have higher violations; or (5) causing a nonattainment area to have a greater number of NAAQS standard exceedances. This evaluation is contained in the individual tables for each regulatory section and is found in Section IV Conclusion of the TSD. The TSD can be found in the docket for this action. The comparison demonstrates that the changes made to the Louisiana rules reflect either the same regulatory language, or are consistent with the requirements found in the federal rules. Further, the Additional Comments to the table contained in section IV for the proposed revisions to section 501 in the TSD contain supporting technical documentation establishing in detail a CAA section 110(l) analysis regarding the tables of Insignificant Activities defined in section 501. Specifically, the Section 501.B.3, Insignificant Activities list, submitted on 5/5/2006, revised the former submittal 11/10/1994, which was then subsumed by the 6/27/2003 submittal.

Our finding is based in part on the historic trends of ambient air quality for the NAAQS pollutants, including ozone and sulfur dioxide (SO2), since those pollutants have caused past air quality issues.¹ The EPA took into consideration the following factors when making the decision to propose approval into the SIP of the permit exemptions listed in the Insignificant Activities tables in section 501:

¹ Supporting documentation is contained in the monitoring data of ambient air quality for NAAQS criteria for cities located throughout Louisiana. See http://www.deq.louisiana.gov/portal/DIVISIONS/Assessment/AirFieldServices/AmbientAirMonitoringProgram/AmbientAirMonitoringDataandReports.aspx.

• Compliance with the 8-hour ozone standard has improved state-wide with ozone pollutant concentrations trending downward with an average 23% decrease in ozone since the late 1980's. This average decrease represents air monitoring values in the Louisiana cities of Baton Rouge, Lake Charles, Monroe, New Orleans, and Point Coupee Parish. 8-Hour ozone trends are listed in the table below:

LA cities | 8-Hour ozone (ppb) 1986 | 8-Hour ozone (ppb) 2015 | Reduction (%)
Baton Rouge | 98 | 71 | 28
Lake Charles (Calcasieu Parish) | 92 | 67 | 27
Monroe | 73 | 61 | 16
New Orleans | 89 | 70 | 22
Pointe Coupe Parish | 85 | 67 | 21

• The Baton Rouge marginal ozone nonattainment area is currently monitoring attainment for the 2008 ozone NAAQS. The 8-Hour ozone values have dropped from 83 ppb in 2006-2008 down to 71 ppb design value for 2015 in Baton Rouge.

• Compliance with the SO2 standard has improved significantly state-wide with SO2 pollutant concentrations trending downward with an average 55% decrease in SO2 since the mid 2000's. This average value represents the Louisiana air monitoring locations of Baton Rouge, Lake Charles, Chalmette, Port Allen, Shreveport, and Meraux. SO2 trends are listed in the table below:

LA cities | SO2 (ppb) 2007 | SO2 (ppb) 2013 | Reduction (%)
Shreveport | 21 | 12 | 43
Lake Charles | 42 | 32 | 24
Baton Rouge | 65 | 19 | 71
Meraux | 32 | 19 | 41
Chalmette | 331 | 112 | 66
Port Allen | 143 | 23 | 84

• The EPA determined the St. Bernard 2010 SO2 NAAQS nonattainment area was caused primarily by one large source of SO2 emissions, the Rain CII Carbon LLC—Chalmette Coke Plant. The LDEQ is currently preparing a proposed SIP attainment demonstration, “St. Bernard Parish SO2 Nonattainment Area Louisiana SIP Revision,” which was submitted to the EPA on April 1, 2015, for review. The EPA provided comments and is working with the LDEQ to ensure the SIP revision contains the appropriate emission limits to bring the area into attainment status. The St. Bernard SO2 nonattainment area has documented SO2 pollutant concentrations decreasing from a 331 ppm SO2 design value in 2009 down to a 159 ppm SO2 design value in 2014.

• Compliance with the Particulate Matter (PM10) standard is maintained and is below regulatory NAAQS levels. PM10 emission concentrations have trended downward an average 25% statewide since the mid 2000's. The average statewide 24-hour PM10 concentration is 28 ug/m³ which is 19% of the NAAQS level for PM10. The average value represents the Louisiana air monitoring locations of Baton Rouge, New Orleans, Chalmette, Shreveport, and Lafayette.

• Compliance with the average statewide annual PM2.5 standards is maintained with an average annual maximum concentration of 10.8 ug/m³, which is below the average annual primary standard for PM2.5 of 12 ug/m³.

• The Baton Rouge Capitol air monitor is the only monitor collecting samples and analyzing for Carbon Monoxide (CO). The 2014 annual average CO value was 0.26 ppm and the maximum monitored value was 5.34 ppm which is below the 9 ppm standard (8 hour averaging time).

Since the list of exempted sources included in the proposed revisions have historically operated without coverage by an air permit and there are no anticipated increases in emissions or in the number of these type of sources resulting from the approval of the exempted list into the SIP, the EPA has determined the possibility of a low level of potential impacts on ambient air quality as a result of the emission sources and activities included in the proposed LAC 33:III section 501 exemptions list and this conclusion is supported by ambient air monitoring trends in the State of Louisiana.

Our determination is consistent with our assessment of the environmental insignificance of these emissions. In addition, the LDEQ has been carrying out the minor NSR air permitting program based on the codification of their permitting policy without any indication that these permit exempted sources have interfered with attainment or reasonable further progress or increased PSD increment. Therefore, the EPA proposes to approve the exemptions lists in section 501 into the Louisiana SIP.

Based on supporting air quality monitoring data documenting air quality improvements throughout the State, the EPA proposes to approve Section 501 containing the list of the exempted sources into the Louisiana SIP since it meets the requirements of CAA section 110(l) and since state agencies are provided the latitude to define the types and sizes of facilities, buildings, structures, or installations subject to review in accordance with 40 CFR 51.160(e). We believe the implementation of this rule will not interfere with any applicable requirement concerning attainment and reasonable further progress, maintaining PSD increment, or any other applicable requirement of the CAA.

III. Proposed Action

The EPA proposes approval of the identified sections of the revisions to the air permitting procedures as submitted as revisions to the Louisiana NSR SIP Permit program on November 15, 1993, November 10, 1994, July 25, 1997, June 22, 1998, June 27, 2003, May 5, 2006, November 9, 2007, August 14, 2009, August 29, 2013, and November 3, 2014, submittals. The EPA has made the determination in accordance with the CAA and the EPA regulations at 40 CFR 51.160-51.165. Therefore, under section 110 and part C of the Act, and for the reasons presented above and in our accompanying TSD, the EPA proposes approval of the revisions to the Louisiana SIP identified in Table 2 below which summarizes each regulatory citation that is affected by this action.

Table 2—Summary of Each Regulation That Is Affected by This Action
Section | Date submitted to EPA as SIP amendment | Affected regulation
Section 501—Scope and Applicability
Section 501.A | 11/15/1993 | Sections 501.A.1. and A.2.
Section 501.B | 11/15/1993 | Sections 501.B.1.a., B.1.b., B.1.c., B.2., B.3., B.4., B.5., B.6., and B.7.
| 11/10/1994 | Sections 501.B.5.A and 501.B.5.B.
| 6/22/1998 | Sections 501.B.3.c. and 501.B.3.d.
| 6/27/2003 | Section 501.B.5.
| 5/5/2006 | Sections 501.B.5, 501.B.32, and 501.D.a.-d.
| 11/3/2014 | Sections 501.B.1.c., 501.B.1.e., 501.B.4.a.i., 501.B.5. Table 1, and 501.B.8.
Section 501.C | 11/15/1993 | Sections 501.C.1., C.2., C.3., C.4., C.5., C.6., C.7., C.8., and C.9.
| 5/5/2006 | Section 501.C.1.
| 11/9/2007 | Sections 501.C.11., C.12., and C.13.
| 8/14/2009 | Section 501.C.1.
Section 502—Definitions
Section 502 | 11/15/1993 | Section 502 Definitions—Clean Air Act, EPA, Final Permit, Fugitive Emissions, Permit Revision, Permit Renewal, Permitting Authority, Potential to Emit, Proposed Permit, Stationary Source. Portions of definitions as outlined in Technical Support Document for: Emissions Unit, Regulated Air Pollutant, Responsible Official, and title I Modification.
| 11/3/2014 | Section 502.A. Definitions—Nonroad Engine.
Section 503—Minor Source Permit Requirements
Section 503.A | 11/15/1993 | Section 503.A.
Section 503.B | 11/15/1993 | Sections 503.B., 503.B.1., 503.B.2., and 503.B.3.
| 11/3/2014 | Section 503.B.2.
Section 504—Nonattainment New Source Review (NNSR) Procedures and Offset Requirements in Specified Parishes
504.A | 11/3/2014 | Sections 504.A.2., 504.A.3., and 504.A.4.
504.D | 11/3/2014 | Section 504.D.5.
504.F | 11/3/2014 | Sections 504.F.1., 504.F.2.
504.M | 11/3/2014 | Sections 504.M.., 504.M.1, 504.M.2.a.-c., 504.M.3., and 504.M.4.
Section 511—Emission Reductions
Section 511 | 11/15/1993 | Section 511.
Section 513—General Permits, Temporary Sources, and Relocation of Portable Facilities
Section 513.A | 11/15/1993 | Sections 513.A.2., 513.A.3., 513.A.4., and 513.A.5.
| 11/9/2007 | Sections 513.A.2., 513.A.6.
Section 513.B | 11/15/1993 | Sections 513.B.1., B.2., B.3., and B.4.
Section 513.C | 11/15/1993 | Sections 513.C.1., 513.C.2., and 513.C.3.
Section 515—Oil and Gas Wells and Pipelines Permitting Provisions
Section 515 | 11/15/1993 | Section 515.
Section 515.A | 11/15/1993 | Sections 515.A.1., 515.A.2, 515.A.3., 515.A.4., 515.A.5.
Section 515.B | 11/15/1993 | Sections 515.B.1., 515.B.2.
Section 517—Permit Applications and Submittal of Information
Section 517.A | 11/15/1993 | Sections 517.A., 517.A.1., 517.A.2., 517.A.3.
| 6/22/1998 | Section 517.A.3.
Section 517.B | 11/15/1993 | Sections 517.B., 517.B.1., 517.B.2., and 517.B.3.
Section 517.C | 11/15/1993 | Section 517.C.
Section 517.D | 11/15/1993 | Sections 517.D., 517.D.1, 517.D.2., 517.D.3., 517.D.4., 517.D.5., 517.D.6., 517.D.7., 517.D.8., 517.D.9., 517.D.10., 517.D.11., 517.D.12., 517.D.13., 517.D.14., 517.D.15., 517.D.16., 517.D.17., and 517.D.18.
Section 517.E | 11/15/1993 | Sections 517.E., 517.E.1., 517.E.2., 517.E.3., 517.E.4., 517.E.5., 517.E.6., 517.E.7., and 517.E.8.
Section 517.F | 11/15/1993 | Sections 517.F., 517.F.1., 517.F.2., 517.F.3., 517.F.4., 517.F.5., 517.F.6., 517.F.7., and 517.F.8.
| 11/10/1994 | Section 517.F.1.
| 7/25/1997 | Section 517.F.
Section 517.G | 11/15/1993 | Section 517.G.
| 5/5/06 | Section 517.G.
Section 519—Permit Issuance Procedures for New Facilities, Initial Permits, Renewals and Significant Modifications
Section 519.A | 11/15/1993 | Sections 519.A., 519.A.1., 519.A.2., 519.A.3., and 519.A.4.
Section 519.B | 11/15/1993 | Sections 519.B., 519.B.1., and 519.B.2.
Section 521—Administrative Amendments
Section 521.A | 5/5/06 | Section 521.A.3.
| 11/10/1994 | Section 521.A.6.
Section 523—Procedures for Incorporating Test Results
Section 523.A | 11/15/1993 | Sections 523.A.1. and A.2.
| 11/3/2014 | Section 523.A.1.b.
Section 523.B | 11/15/1993 | Sections 523.B.1., B.2., B.3., and B.4.
| 8/29/2013 | Sections 523.B.3., 523.B.4., and 523.B.5.
Section 525—Minor Modifications
Section 525.A | 11/15/1993 | Sections 525.A., 525.A.1., 525.A.2., and 525.A.3.
Section 525.B | 11/15/1993 | Sections 525.B., 525.B.1., and 525.B.2.
Section 527—Significant Modifications
Section 527.A | 11/15/1993 | Sections 527.A., 527.A.1., 527.A.2., and 527.A.3.
| 11/10/1994 | Sections 527.A.2., 527.A.2.c.
Section 527.B | 11/15/1993 | Sections 527.B., 527.B.1., 527.B.2., 527.B.3., 527.B.4., and 527.B.5.
| 11/10/1994 | Section 527.B.
Section 529—Reopenings for Cause
Section 529.A | 11/15/1993 | Sections 529.A., 529.A.1., and 529.A.2.
Section 529.B | 11/15/1993 | Sections 529.B., 529.B.1., 529.B.2., 529.B.3., and 529.B.4.
Section 601—Purpose
Section 601.A | 11/3/2014 | Section 601.A.
Section 603—Applicability
Section 603.A | 11/3/2014 | Section 603.A.
Section 603.B | 11/3/2014 | Section 603.B.
Section 605—Definitions
Section 605.A | 11/3/2014 | Section 605.A. Definitions—Bankable Emission Reductions and Offset, Repealed Definitions—Base Case Inventory, Base Line Inventory, Current Total Point-Source Emissions Inventory, Modeled Parishes.
Section 607—Determination of Creditable Emission Reductions
Section 607.C | 11/3/2014 | Sections 607.C., 607.C.1., and 607.C.4.
Section 615—Schedule for Submitting Applications
Section 615.B | 11/3/2014 | Section 615.B.
Section 619—Emission Reduction Credit Bank
Section 619.A | 11/3/2014 | Section 619.A.

IV. Incorporation by Reference

In this action, we are proposing to include in a final rule regulatory text that includes incorporation by reference. In accordance with the requirements of 1 CFR 51.5, we are proposing to incorporate by reference revisions to the Louisiana regulations as described in the Proposed Action section above. We have made, and will continue to make, these documents generally available electronically through www.regulations.gov and/or in hard copy at the EPA Region 6 office.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, and Volatile organic compounds.

Authority: 42 U.S.C. 7401 et seq.

Dated: April 7, 2016.
Ron Curry,
Regional Administrator, Region 6.

[FR Doc. 2016-08927 Filed 4-19-16; 8:45 am]

BILLING CODE 6560-50-P